ENVIRONMENTAL PROTECTION AGENCY

40 CFR Part 271

[EPA-R09-RCRA-2021-0628; FRL-9760-01-R9]

Hawaii: Authorization of State Hazardous Waste Management Program Revisions

AGENCY: Environmental Protection Agency (EPA).

ACTION: Proposed action/decision/authorization.

SUMMARY: The Environmental Protection Agency (EPA) is proposing to authorize changes to Hawaii's hazardous waste program under the Resource Conservation and Recovery Act (RCRA). These changes were outlined in an application to the EPA and correspond to certain federal rules promulgated between July 1, 2016 and June 30, 2020 (also known as RCRA Clusters XXV to XXVIII) and for authorization of state-initiated changes that are equivalent to or more stringent than the federal program. The EPA reviewed Hawaii's application and has determined that these changes satisfy all requirements needed to qualify for final authorization. Elsewhere, in the “Rules and Regulations” section of this Federal Register, we are authorizing Hawaii for these changes as a direct final authorization without a prior proposed action. If we receive no adverse comment, we will not take further action on this proposed authorization.

DATES: Comments must be received on or before June 2, 2022.

ADDRESSES: Submit your comments to EPA, identified by Docket ID No. EPA-R09-RCRA-2021-0628, at https://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). The https://www.regulations.gov website is an “anonymous access” system, which means EPA will not know your identity or contact information unless you provide it in the body of your comment. If you send an email comment directly to EPA without going through https://www.regulations.gov, your email address will be automatically captured and included as part of the comment that is placed in the public docket and made available on the internet. If you submit an electronic comment, EPA recommends that you include your name and other contact information in the body of your comment. If EPA cannot read your comment due to technical difficulties and cannot contact you for clarification, EPA may not be able to consider your comment. Electronic files should avoid the use of special characters, any form of encryption, and be free of any defects or viruses.

FOR FURTHER INFORMATION CONTACT: Dani Allen-Williams, AllenWilliams.Dani@epa.gov, 415-942-3800.

SUPPLEMENTARY INFORMATION: This document proposes to take action on Hawaii's changes to its hazardous waste management program under the Resource Conservation and Recovery Act (RCRA), as amended. We have published a direct final action authorizing these changes in the “Rules and Regulations” section of this issue of the Federal Register because we view this as a noncontroversial action and anticipate no adverse comment. We have explained our reasons for this action in the preamble to the direct final authorization.

If we receive no adverse comment, we will not take further action on this proposed rulemaking. If we receive adverse comment, we will withdraw the direct final authorization and it will not take effect. We would then address all public comments in a subsequent final action and base any further decision on the authorization of the state program changes after considering all comments received during the comment period.

We do not intend to institute a second comment period on this action. Any parties interested in commenting must do so at this time. For further information, please see the information provided in the ADDRESSES section of this document.

Authority: This action is issued under the authority of sections 2002(a), 3006, and 7004(b) of the Solid Waste Disposal Act as amended, 42 U.S.C. 6912(a), 6926, and 6974(b).

Dated: April 25, 2022.
Martha Guzman Aceves,
Regional Administrator, Region IX.

[FR Doc. 2022-09429 Filed 5-2-22; 8:45 am]

BILLING CODE 6560-50-P